DEPARTMENT OF HOMELAND SECURITY

[Docket No. DHS-2011-0111]

Homeland Security Advisory Council

AGENCY: The Office of Policy, DHS.

ACTION: Closed Federal Advisory Committee Meeting.

SUMMARY: The Homeland Security Advisory Council (HSAC) will meet on January 9, 2012, in Arlington, Virginia. The meeting will be closed to the public. A notice of the meeting of the Homeland Security Advisory Council is being published in the Federal Register on December 27, 2011, 14 days prior to the meeting due to holiday scheduling conflicts. Although the meeting notice will be published in the Federal Register late, we've extended public comment until one day prior to the meeting.

DATES: The HSAC will meet on Monday, January 9, 2012, from 8:50 a.m. to 3:30 p.m. EST.

ADDRESSES: The meeting will be held in Town Hall (1) at the Transportation Security Administration, 601 South 12th Street, (East Building), Arlington, VA 22202. Written comments must be submitted and received by January 8, 2012. Comments must be identified by Docket No. DHS 2011-0111 and may be submitted by one of the following methods:

• Federal eRulemaking Portal: http://www.regulations.gov. Follow the instructions for submitting comments.

• Email: HSAC@dhs.gov. Include docket number in the subject line of the message.

• Fax: (202) 282-9207

• Mail: Homeland Security Advisory Council, Department of Homeland Security, Mailstop 0450, 245 Murray Lane SW., Washington, DC 20528.

Instructions: All submissions received must include the words “Department of Homeland Security” and DHS-2011-0111, the docket number for this action. Comments received will be posted without alteration at http://www.regulations.gov, including any personal information provided.

Docket: For access to the docket to read background documents or comments received by the DHS Homeland Security Advisory Council, go to http://www.regulations.gov.

FOR FURTHER INFORMATION CONTACT: HSAC Staff at hsac@dhs.gov or (202) 447-3135.

SUPPLEMENTARY INFORMATION: Notice of this meeting is given under the Federal Advisory Committee Act, 5 U.S.C. App. The HSAC provides independent, objective advice and recommendations for the consideration of the Secretary of the Department of Homeland Security on matters related to homeland security. The Council is comprised of leaders of local law enforcement, first responders, state and local government, the private sector, and academia.

The HSAC will meet for the purpose of receiving sensitive operational information from senior DHS leadership. The meeting will address threats to our homeland security, border security, examine U.S. Coast Guard counterterrorism efforts; provide an operational update of the Transportation Security Administration's (TSA) Frequent Traveler Program; examine evolving threats in cyber security; and provide information on the threat of an electromagnetic pulse attack and its associated vulnerabilities.

Summary of the Agenda

Sensitive Threat Briefings against the Homeland.

Briefing on Strategic Implementation Plan to Counter Violent Extremism Domestically.

Update on Border Security and Evolving Threats.

US Coast Guard, Update on Counterterrorism Efforts Around the World.

TSA Frequent Travelers Program Operational Update.

Electromagnetic Pulse (EMP) Threat—Lessons Learned and Areas of Vulnerability, and

Evolving Threats in Cyber Security.

Basis for Closure: In accordance with Section 10(d) of the Federal Advisory Committee Act, it has been determined that the meeting requires closure as the premature disclosure of the information would not be in the public interest.

The HSAC will receive briefings on domestic and international threats to the homeland from DHS Intelligence and Analysis and other senior leadership, and a briefing on threats at the Southwest Border and joint operations with Mexican law enforcement from U.S. Customs and Border Protection. That material, and a discussion of it, entails information the premature disclosure of which would not be in the public interest. Specifically, there will be material presented regarding the latest viable threats against the United States, and how DHS and other Federal agencies plan to address those threats. Under 5 U.S.C. 552b(c)(7)(E)&(F), disclosure of that information could reveal investigative techniques and procedures not generally available to the public, allowing those with interests against the United States to circumvent the law, thereby endangering the life or physical safety of law enforcement personnel. Additionally, under 5 U.S.C. 552b(c)(9)(B), disclosure of these techniques and procedures could frustrate the successful implementation of protective measures designed to keep our country safe.

The DHS Office of Counterterrorism will present a briefing on the Department's implementation plan to counter domestic violent extremism. Providing this information to the public would provide terrorists with a road map regarding the Department's plan to counter their actions, and thus, allow them to take different actions to avoid counterterrorism efforts. Under 5 U.S.C. 552b(c)(7)(E)&(F), disclosure of that information could endanger the life or physical safety of law enforcement personnel. Additionally, under 5 U.S.C. 552b(c)(9)(B), disclosure of this plan could frustrate the successful implementation of measures designed to counter terrorist acts.

The members of the HSAC will receive a briefing on the Transportation Security Administration's (TSA) frequent travelers program that will include lessons learned, the enhanced security the new program provides, and screening techniques associated with this program. The briefing will include Sensitive Security Information within the meaning of 49 U.S.C. § 114 and 49 C.F.R. part 1520, which requires nondisclosure of security activities if disclosure would be detrimental to the security of transportation. DHS has determined that public disclosure of this information would significantly compromise the operational security of the nation's transportation system if disclosed, by exposing the existing vulnerabilities and the physical limitations of the program. As a result, this briefing must be closed under the authority of 5 U.S.C. 552b(c)(3)(A).

The members will also receive a briefing on recent Cyber attacks and the potential threat of an electromagnetic pulse attack. Both will include lessons learned and potential vulnerabilities of infrastructure assets, as well as potential methods to improve the Federal response to a cyber or electromagnetic pulse attack. Disclosure of this information would be a road map to those who wish to attack our infrastructure, and hence, would certainly frustrate the successful implementation of preventive and counter measures to protect our cyber and physical infrastructure. Therefore, this portion of the meeting is required to be closed under U.S.C. 552b(c)(9)(B). Accordingly, this meeting will be closed to the public.

Dated: December 21, 2011.
Becca Sharp,
Executive Director, Homeland Security Advisory Council, DHS.

[FR Doc. 2011-33196 Filed 12-27-11; 8:45 am]

BILLING CODE 9110-9-P